DEPARTMENT OF COMMERCE

International Trade Administration

[A-570-933]

Frontseating Service Valves From the People's Republic of China: Final Results of Sunset Review and Revocation of Antidumping Duty Order

AGENCY: Enforcement and Compliance, International Trade Administration, Department of Commerce.

SUMMARY: On March 3, 2014, the Department of Commerce (“the Department”) initiated the sunset review of the antidumping duty order on frontseating service valves from the People's Republic of China (“PRC”).¹ Because no domestic interested party filed a notice of intent to participate in response to the Initiation Notice by the applicable deadline, the Department is revoking the antidumping duty order on frontseating service valves from the PRC.

¹ See Initiation of Five-Year (“Sunset”) Review, 79 FR 11762 (March 3, 2014) (“Initiation Notice”).

DATES: Effective Date: April 28, 2014.

FOR FURTHER INFORMATION CONTACT: Laurel LaCivita at (202) 482-4243, AD/CVD Operations, Office III, Enforcement and Compliance, International Trade Administration, U.S. Department of Commerce, 14th Street and Constitution Avenue NW., Washington, DC 20230.

SUPPLEMENTARY INFORMATION:

Background

On April 28, 2009, the Department published the antidumping duty order on frontseating service valves from the PRC in the Federal Register.² On March 3, 2014, the Department initiated the sunset review of the antidumping duty Order pursuant to section 751(c) of the Tariff Act of 1930, as amended (“the Act”).³ We received no notice of intent to participate in response to the Initiation Notice from domestic interested parties by the applicable deadline.⁴ As a result, the Department concludes that no domestic party intends to participate in this sunset review.⁵ On March 24, 2014, we notified the International Trade Commission, in writing, that we intend to revoke the Order.⁶

² See Antidumping Duty Order: Frontseating Service Valves From the People's Republic of China, 74 FR 19196 (April 28, 2009) (“Order”).

³ See Initiation Notice.

⁴ See 19 CFR 351.218(d)(1)(i).

⁵ See 19 CFR 351.218(d)(1)(iii)(A).

⁶ See 19 CFR 351.218(d)(1)(iii)(B)(2).

Scope of the Order

The merchandise covered by this Order is frontseating service valves, assembled or unassembled, complete or incomplete, and certain parts thereof. Frontseating service valves contain a sealing surface on the front side of the valve stem that allows the indoor unit or outdoor unit to be isolated from the refrigerant stream when the air conditioning or refrigeration unit is being serviced. Frontseating service valves rely on an elastomer seal when the stem cap is removed for servicing and the stem cap metal to metal seat to create this seal to the atmosphere during normal operation.⁷

⁷ The frontseating service valve differs from a backseating service valve in that a backseating service valve has two sealing surfaces on the valve stem. This difference typically incorporates a valve stem on a backseating service valve to be machined of steel, where a frontseating service valve has a brass stem. The backseating service valve dual stem seal (on the back side of the stem), creates a metal to metal seal when the valve is in the open position, thus, sealing the stem from the atmosphere.

For purposes of the scope, the term “unassembled” frontseating service valve means a brazed subassembly requiring any one or more of the following processes: the insertion of a valve core pin, the insertion of a valve stem and/or O ring, the application or installation of a stem cap, charge port cap or tube dust cap. The term “complete” frontseating service valve means a product sold ready for installation into an air conditioning or refrigeration unit. The term “incomplete” frontseating service valve means a product that when sold is in multiple pieces, sections, subassemblies or components and is incapable of being installed into an air conditioning or refrigeration unit as a single, unified valve without further assembly.

The major parts or components of frontseating service valves intended to be covered by the scope under the term “certain parts thereof” are any brazed subassembly consisting of any two or more of the following components: a valve body, field connection tube, factory connection tube or valve charge port. The valve body is a rectangular block, or brass forging, machined to be hollow in the interior, with a generally square shaped seat (bottom of body). The field connection tube and factory connection tube consist of copper or other metallic tubing, cut to length, shaped and brazed to the valve body in order to create two ports, the factory connection tube and the field connection tube, each on opposite sides of the valve assembly body. The valve charge port is a service port via which a hose connection can be used to charge or evacuate the refrigerant medium or to monitor the system pressure for diagnostic purposes.

The scope includes frontseating service valves of any size, configuration, material composition or connection type. Frontseating service valves are classified under subheading 8481.80.1095, and also have been classified under subheading 8415.90.80.85, of the Harmonized Tariff Schedule of the United States (“HTSUS”). It is possible for frontseating service valves to be manufactured out of primary materials other than copper and brass, in which case they would be classified under HTSUS subheadings 8481.80.3040, 8481.80.3090, or 8481.80.5090. In addition, if unassembled or incomplete frontseating service valves are imported, the various parts or components would be classified under HTSUS subheadings 8481.90.1000, 8481.90.3000, or 8481.90.5000. The HTSUS subheadings are provided for convenience and customs purposes, but the written description of the scope of this order is dispositive.

Revocation

Pursuant to section 751(c)(3)(A) of the Act and 19 CFR 351.218(d)(1)(iii)(B)(3), if no domestic interested party files a notice of intent to participate, the Department shall issue a final determination revoking the order within 90 days of the initiation of the review. Because no domestic interested party filed a timely notice of intent to participate in this sunset review, the Department finds that no domestic interested party is participating in this sunset review. Therefore, we are revoking the Order. The effective date of revocation is April 28, 2014, the fifth anniversary of the date of publication in the Federal Register of the Order.⁸

⁸ See 19 CFR 351.222(i)(2); see also Order, 74 FR 19196.

Pursuant to section 751(c)(3)(A) of the Act and 19 CFR 351.222(i)(2)(i), the Department intends to issue instructions to U.S. Customs and Border Protection to terminate the suspension of liquidation of entries of the merchandise subject to the order which were entered, or withdrawn from warehouse, for consumption on or after April 28, 2014. Entries of subject merchandise prior to April 28, 2014, will continue to be subject to the suspension of liquidation and requirements for deposits of estimated antidumping duties. The Department will conduct administrative reviews of the order with respect to subject merchandise entered prior to the effective date of revocation in response to appropriately filed requests for review.

These final results of the five-year (sunset) review and notice are published in accordance with sections 751(c) and 777(i)(1) of the Act.

Dated: April 30, 2014.
Paul Piquado,
Assistant Secretary for Enforcement and Compliance.

[FR Doc. 2014-11136 Filed 5-13-14; 8:45 am]

BILLING CODE 3510-DS-P